DEPARTMENT OF COMMERCE

Foreign-Trade Zones Board

[Order No. 1732]

Expansion/Reorganization of Foreign-Trade Zone 202, Los Angeles, CA

Pursuant to its authority under the Foreign-Trade Zones Act of June 18, 1934, as amended (19 U.S.C. 81a-81u), the Foreign-Trade Zones Board (the Board) adopts the following Order:

Whereas, the Board of Harbor Commissioners of the City of Los Angeles, grantee of Foreign-Trade Zone 202, submitted an application to the Board for authority to reorganize and expand FTZ 202 in the Los Angeles, California area, within and adjacent to the Los Angeles/Long Beach Customs and Border Protection port of entry (FTZ Docket 57-2009, filed 12/11/2009);

Whereas, notice inviting public comment has been given in the Federal Register (74 FR 67172-67173, 12/18/2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand and reorganize FTZ 202 is approved, subject to the FTZ Act and the Board's regulations, including Section 400.28, and to the Board's standard 2,000-acre activation limit for the overall general-purpose zone project, subject to sunset provisions that would terminate authority on 12/31/2013 for existing Site 11, re-designated Site 16 and re-designated Site 27 and on 12/31/2015 for re-designated Site 22 where no activity has occurred under FTZ procedures before those dates, and subject to a time limit for re-designated Site 19 that will terminate authority on 12/31/2015, subject to extension upon review.

Signed at Washington, DC, this 20th day of December 2010.
Ronald K. Lorentzen,
Deputy Assistant Secretary for Import Administration, Alternate Chairman, Foreign-Trade Zones Board.
Andrew McGilvray,
Executive Secretary.

[FR Doc. 2010-33119 Filed 12-30-10; 8:45 am]

BILLING CODE P